DEPARTMENT OF ENERGY

10 CFR Part 431

[EERE-2017-BT-TP-0007]

RIN 1904-AD82

Energy Conservation Program: Energy Conservation Standards for Commercial Refrigerators, Freezers, and Refrigerator-Freezers

AGENCY: Office of Energy Efficiency and Renewable Energy, Department of Energy.

ACTION: Final rule; withdrawal.

SUMMARY: Pursuant to the Congressional Review Act, this document withdraws a disapproved final rule that was published in the Federal Register on January 21, 2025. The final rule would have established amended energy conservation standards for commercial refrigerators, freezers, and refrigerator-freezers.

DATES: As of May 20, 2025, the final rule on energy conservation standards for commercial refrigerators, freezers, and refrigerator-freezers, published in the Federal Register on January 21, 2025, at 90 FR 7464, and delayed at 90 FR 11466 (Mar. 7, 2025), is withdrawn.

FOR FURTHER INFORMATION CONTACT:

Appliance Standards Program, U.S. Department of Energy, Office of Energy Efficiency and Renewable Energy, Building Technologies Office, EE-5B, 1000 Independence Avenue SW, Washington, DC 20585-0121. Email: ApplianceStandardsQuestions@ee.doe.gov.

Pete Cochran, U.S. Department of Energy, Office of the General Counsel, 1000 Independence Avenue SW, Washington, DC 20585-0121. Telephone: (240) 961-1189. Email: Peter.Cochran@hq.doe.gov.

SUPPLEMENTARY INFORMATION: On January 21, 2025, the U.S. Department of Energy published in the Federal Register a final rule (“January 2025 Final Rule”) prescribing amended energy conservation standards for commercial refrigerators, freezers, and refrigerator-freezers. 90 FR 7464. The effective date of the January 2025 Final Rule is May 20, 2025. 90 FR 11466 (Mar. 7, 2025).

On May 9, 2025, President Trump signed into law a joint resolution of disapproval of the January 2025 Final Rule. See 5 U.S.C. 801. In accordance with the Congressional Review Act, the January 2025 Final Rule shall have no force or effect. See 5 U.S.C. 802(a). As a result, DOE withdraws the January 2025 Final Rule and provides notice that the amended energy conservation standards for commercial refrigerators, freezers, and refrigerator-freezers prescribed in the January 2025 Final Rule shall have no force or effect.

To the extent that 5 U.S.C. 553 applies to this action, DOE finds that notice and comment is unnecessary because DOE is withdrawing a final rule that has been disapproved under the Congressional Review Act. Further, as this withdrawal is providing notice that the January 2025 Final Rule has no force or effect, DOE finds good cause to waive the 30-day delay in effective date under 5 U.S.C. 553(d).

Approval of the Office of the Secretary

The Secretary of Energy has approved publication of this final rule; withdrawal.

List of Subjects in 10 CFR Part 431

Administrative practice and procedure, Confidential business information, Energy conservation, Household appliances, Imports, Intergovernmental relations, Reporting and recordkeeping requirements, Small businesses.

Signing Authority

This document of the Department of Energy was signed on May 15, 2025, by Louis Hrkman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 15, 2025.
Treena V. Garrett,
Federal Register Liaison Officer, U.S. Department of Energy.

[FR Doc. 2025-09031 Filed 5-19-25; 8:45 am]

BILLING CODE 6450-01-P